DEPARTMENT OF HEALTH AND HUMAN SERVICES

Agency for Toxic Substances and Disease Registry

[ATSDR-157]

Public Health Assessments Completed

AGENCY: Agency for Toxic Substances and Disease Registry (ATSDR), Department of Health and Human Services (HHS).

ACTION: Notice.

SUMMARY: This notice announces those sites for which ATSDR has completed public health assessments during the period from October through December 1999. This list includes sites that are on or proposed for inclusion on the National Priorities List (NPL), and also includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on January 11, 2000, (65 FR1637). This announcement is the responsibility of ATSDR under the regulation, Public Health Assessments and Health Effects Studies of Hazardous Substances Releases and Facilities (42 CFR Part 90). This rule sets forth ATSDR's procedures for conducting public health assessments under section 104(i) of the Comprehensive Environmental Response, Compensation, and Liability Act (CERCLA), as amended by the Superfund Amendments and Reauthorization Act (SARA) (42 U.S.C. 9604(i)).

Availability

The completed public health assessments and addenda are available for public inspection at the Division of Health Assessment and Consultation, Agency for Toxic Substances and Disease Registry, Building 33, Executive Park Drive, Atlanta, Georgia (not a mailing address), between 8 am and 4:30 pm, Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assessments Completed or Issued

Between, October 1 and December 31 1999, public health assessments were issued for the sites listed below:

NPL Sites

Georgia

Camilla Wood Preserving Company—(a/k/a Escambia Treating Company Incorporated)—Camilla—(PB20-103266).

Illinois

Depue/Jersey Zinc/Mobil Chemical Corporation—Depue—(PB20-102450). Evergreen Manor Groundwater Contamination Plume—Roscoe—(PB20-102849). Savanna Army Depot Activity—Savanna—(PB20-102850).

Iowa

Iowa Army Ammunition Plant—Middletown—(PB20-102851).

Maryland

Fort George G. Meade—Fort Meade—(PB20-101390).

Michigan

West Beitz Creek Fill Area—(a/k/a Marshall Elementry School)—Livonia—(PB20-101391).

New Jersey

Fort Dix (Landfill Site)—Wrightstown—(PB20-100618).

Ohio

Wright-Patterson Air Force Base—Fairborn—(PB20-101405).

Texas

Austin City of Holly Street Power—Austin—(a/k/a Holly Street Power Plant)—(PB20-101712).

Washington

Port Hadlock Detachment (US Navy) [a/k/a US Navy Port Hadlock Detachment (Indian Island Depot)]—Port Hadlock—(PB20-102551).

Wyoming

F.E. Warren Air Force Base—Cheyenne—(PB20-101764).

Non NPL Petitioned Sites

Georgia

T.H. Agriculture and Nutrition (Albany)—Albany—(PB20-102004).

New Jersey

Atlantic State Cast Iron Pipe—Phillipsburg—(PB20-102003).

New York

Brookfield Avenue Landfill—Staten Island—(PB20-101763).

Dated: March 15, 2000.
Georgi Jones, Director,
Office of Policy and External Affairs Agency for Toxic Substances and Disease Registry.

[FR Doc. 00-6905 Filed 3-20-00; 8:45 am]

BILLING CODE 4163-70-P